DEPARTMENT OF HOMELAND SECURITY

Federal Emergency Management Agency

44 CFR Part 65

[Docket ID FEMA-2010-0003]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) makes the final determinations listed below for the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Mobile (FEMA Docket No: B-1059) | Unincorporated areas of Mobile County (08-04-6003P) | May 11, 2009; May 18, 2009; Press-Register | The Honorable Stephen Nodine, President, Mobile County Commission, 205 Government Street, Mobile, AL 36644 | September 15, 2009 | 015008
Montgomery (FEMA Docket No: B-1059) | City of Montgomery (08-04-6322P) | May 11, 2009; May 18, 2009; Montgomery Advertiser | The Honorable Todd Strange, Mayor, City of Montgomery, 103 North Perry Street, Montgomery, AL 36104 | September 15, 2009 | 010174
Tuscaloosa (FEMA Docket No: B-1059) | City of Northport (08-04-6551P) | May 11, 2009; May 18, 2009; Tuscaloosa News | The Honorable Bobby Herndon, Mayor, City of Northport, 3500 McFarland Boulevard, Northport, AL 35476 | September 15, 2009 | 010202
Tuscaloosa (FEMA Docket No: B-1059) | Unincorporated areas of Tuscaloosa County (08-04-6551P) | May 11, 2009; May 18, 2009; Tuscaloosa News | The Honorable W. Hardy McCollum, Probate Judge, Tuscaloosa County, 714 Greensboro Avenue, Tuscaloosa, AL 35401 | September 15, 2009 | 010201
Connecticut: Tolland (FEMA Docket No: B-1059) | Town of Coventry (09-01-0698P) | May 11, 2009; May 18, 2009; Journal Inquirer | The Honorable Liz Woolf, Chairperson, Coventry Town Council, Town Hall, 1712 Main Street, Coventry, CT 06238 | September 15, 2009 | 090110
Florida: Marion (FEMA Docket No: B-1059) | City of Ocala (08-04-4557P) | May 13, 2009; May 20, 2009; Star-Banner | The Honorable Randy Ewers, Mayor, City of Ocala, P.O. Box 1270, Ocala, FL 34478 | September 15, 2009 | 120330
Illinois: Will (FEMA Docket No: B-1059) | Unincorporated areas of Will County (09-05-1623P) | May 11, 2009; May 18, 2009; The Herald-News | The Honorable Lawrence M. Walsh, Will County Executive, 302 North Chicago Street, Joliet, IL 60432 | September 15, 2009 | 170695
Nevada:
Clark (FEMA Docket No: B-1059) | Unincorporated areas of Clark County (09-09-0526P) | May 12, 2009; May 19, 2009; Las Vegas Review-Journal | The Honorable Rory Reid, Chair, Clark County Board of Commissioners, 500 South Grand Central Parkway, Las Vegas, NV 89106 | September 16, 2009 | 320003
Clark (FEMA Docket No: B-1059) | City of Henderson (09-09-0526P) | May 12, 2009; May 19, 2009; Las Vegas Review-Journal | The Honorable James B. Gibson, Mayor, City of Henderson, 240 South Water Street, Henderson, NV 89015 | September 16, 2009 | 320005
Texas:
Collin (FEMA Docket No: B-1059) | Town of Prosper (09-06-0211P) | May 11, 2009; May 18, 2009; Dallas Morning News | The Honorable Charles Niswanger, Mayor, Town of Prosper, P.O. Box 307, Prosper, TX 75078 | September 15, 2009 | 480141
El Paso (FEMA Docket No: B-1059) | City of El Paso (09-06-0832P) | May 13, 2009; May 20, 2009; El Paso Times | The Honorable John Cook, Mayor, City of El Paso, City Hall, 10th Floor, Two Civic Center Plaza, El Paso, TX 79901 | September 17, 2009 | 480214

(Catalog of Federal Domestic Assistance No. 97.022, “Flood Insurance.”)

Dated: March 22, 2010.
Sandra K. Knight,
Deputy Federal Insurance and Mitigation Administrator, Mitigation, Department of Homeland Security, Federal Emergency Management Agency.

[FR Doc. 2010-8053 Filed 4-8-10; 8:45 am]

BILLING CODE 9110-12-P